DEPARTMENT OF VETERANS AFFAIRS

Privacy Act of 1974, Addition of Routine Use to System of Records Compensation, Pension, Education Rehabilitation Records-VA

AGENCY: Department of Veterans Affairs.

ACTION: Notice; addition of routine use.

SUMMARY: As required by the Privacy Act of 1974, 5 U.S.C. 552a(e)(4), notice is hereby given that the Department of Veterans Affairs (VA) proposes to add a routine use to the system of records “VA Compensation, Pension, Education and Rehabilitation Records—VA (58 VA 21/22).”

DATES: The proposed routine use will be effective July 17, 2000, unless comments are received before this date which would result in a contrary determination.

ADDRESSES: Written comments concerning the proposed amendment to the routine use may be mailed to the Office of Regulations Management (02D), Department of Veterans Affairs, 810 Vermont Ave., NW., Washington, DC 20420.

FOR FURTHER INFORMATION CONTACT: Paul Trowbridge, Consultant, Compensation and Pension Service, Department of Veterans Affairs, 810 Vermont Ave., NW., Washington, DC 20420, (202) 273-7218.

SUPPLEMENTARY INFORMATION: There is an ongoing computer matching program between the Department of Veterans Affairs (VA) and the Internal Revenue Service (IRS) to provide VA with tax return information as it relates to unearned income. VA uses the data to update the master records of VA beneficiaries receiving income dependent benefits and to adjust VA income dependent benefits. As a condition of continuing the computer matching agreement after December 31, 2000, IRS is requiring that VA publish a routine use stating that disclosure of tax returns and return information received from IRS may be made only as provided by 26 U.S.C. 6103.

VA proposes to add this routine use to the following system of records which is contained in the Federal Register: VA Compensation, Pension, Education and Rehabilitation Records-VA (58 VA 21/22)” first published at 41 FR 924 (March 3, 1976), and last amended at 63 FR 37941 (7/14/98), with other amendments as cited therein.

A “Report of Altered System” and an advance copy of the revised system have been sent to the chairmen and ranking minority members of the Committee on Governmental Reform of the U.S. House of Representatives and the Committee on Governmental Affairs of the U.S. Senate, and to the Office of Management and Budget, as required by 5 U.S.C. 552a(o) and guidelines issued by the Office of Management and Budget.

Interested persons are invited to submit written comments, suggestions, or objections regarding the proposed amended routine use statement to the Director, Office of Regulations Management (02D), Department of Veterans Affairs, 810 Vermont Ave., NW., Washington, DC 20420. All relevant material received before (insert date 30 days after publication in the Federal Register will be considered. All written comments received will be available for public inspection at the above address in the Office of Regulations Management, Room 1158, between the hours of 8:30 am and 4:30 pm, Monday through Friday, except holidays.

If no public comment is received during the 30-day review period allowed for public comment, or otherwise published in the Federal Register by VA, the new routine use is effective July 17, 2000.

Dated: Approved: May 26, 2000.
Togo D. West Jr.,
Secretary of Veterans Affairs.

58 VA21/22

System name:

Compensation, Pension, Education and Rehabilitation Records—VA.

1. In the system identified as 58 VA21/22 “Compensation, Pension, Education, and Rehabilitation Records” first published at 41 FR 924 (March 3, 1976), and last amended at 63 FR 37941 (7/14/98), with other amendments as cited therein, the following routine use is added:

System name:

Compensation, Pension, Education and Rehabilitation Records.

* * * * *

Routine uses of records maintained in the system, including categories of users and purposes of such uses:

* * * * *

62. Disclosure of tax returns and return information received from the Internal Revenue Service may be made only as provided by 26 U.S.C. 6103 (an IRS confidentiality statute), also covering any IRS tax return information provided as part of an ongoing computer matching program.

* * * * *

[FR Doc. 00-15073 Filed 6-14-00; 8:45 am]

BILLING CODE 8320-01-M